DEPARTMENT OF THE INTERIOR

Bureau of Safety and Environmental Enforcement (BSEE)

[Docket ID BSEE-2016-0012; OMB Number 1014-0025; 16XE1700DX EEEE500000 EX1SF0000.DAQ000]

Information Collection Activities: Application for Permit Drill (APD, Revised APD), Supplemental APD Information Sheet, and All Supporting Documentation; Proposed Collection; Comment Request

ACTION: 60-day notice.

SUMMARY: To comply with the Paperwork Reduction Act of 1995 (PRA), the Bureau of Safety and Environmental Enforcement (BSEE) is inviting comments on a collection of information that we will submit to the Office of Management and Budget (OMB) for review and approval. The information collection request (ICR) concerns a renewal to the paperwork requirements in the regulations under 30 CFR 250 where it pertains to an Application for Permit Drill (APD, Revised APD), Supplemental APD Information Sheet, and all supporting documentation.

DATES: You must submit comments by November 21, 2016.

ADDRESSES: You may submit comments by either of the following methods listed below.

• Electronically go to http://www.regulations.gov. In the Search box, enter BSEE-2016-0012 then click search. Follow the instructions to submit public comments and view all related materials. We will post all comments.

• Email kye.mason@bsee.gov, fax (703) 787-1546, or mail or hand-carry comments to the Department of the Interior; Bureau of Safety and Environmental Enforcement; Regulations and Standards Branch; ATTN: Nicole Mason; 45600 Woodland Road, Sterling, VA 20166. Please reference ICR 1014-0025 in your comment and include your name and return address.

FOR FURTHER INFORMATION CONTACT: Nicole Mason, Regulations and Standards Branch, (703) 787-1607, to request additional information about this ICR.

SUPPLEMENTARY INFORMATION:

Title: 30 CFR 250, Application for Permit to Drill (APD, Revised APD), Supplemental APD Information Sheet, and all supporting documentation.

Form(s): BSEE-0123 and -0123S.

OMB Control Number: 1014-0025.

Abstract: The Outer Continental Shelf (OCS) Lands Act (OCSLA) at 43 U.S.C. 1334 authorizes the Secretary of the Interior to prescribe rules and regulations necessary for the administration of the leasing provisions of that Act related to mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, BSEE is required to charge fees for services that provide special benefits or privileges to an identifiable non-Federal recipient above and beyond those which accrue to the public at large. Applications for permits to drill and modification approvals are subject to cost recovery, and BSEE regulations specify service fees for these requests.

These authorities and responsibilities are among those delegated to BSEE. The regulations at 30 CFR 250 stipulate the various requirements that must be submitted with forms BSEE-0123 (Application for Permit to Drill) and BSEE-0123S (Supplemental APD Information Sheet), and the numerous submittals included with them; and are the subject of this collection.

This request also covers related Notices to Lessees and Operators (NTLs) that BSEE issues to clarify, supplement, or provide additional guidance on some aspects of our regulations.

Some responses are mandatory and some are required to obtain or retain a benefit. No questions of a sensitive nature are asked. BSEE will protect proprietary information according to the Freedom of Information Act (5 U.S.C. 552) and DOI's implementing regulations (43 CFR 2); 30 CFR part 250.197, Data and information to be made available to the public or for limited inspection; and 30 CFR part 252, OCS Oil and Gas Information Program.

BSEE uses the information to ensure safe drilling operations and to protect the human, marine, and coastal environment. Among other things, BSEE specifically uses the information to ensure: The drilling unit is fit for the intended purpose; the lessee or operator will not encounter geologic conditions that present a hazard to operations; equipment is maintained in a state of readiness and meets safety standards; each drilling crew is properly trained and able to promptly perform well-control activities at any time during well operations; compliance with safety standards; and the current regulations will provide for safe and proper field or reservoir development, resource evaluation, conservation, protection of correlative rights, safety, and environmental protection. We also review well records to ascertain whether drilling operations have encountered hydrocarbons or H2S and to ensure that H2S detection equipment, personnel protective equipment, and training of the crew are adequate for safe operations in zones known to contain H2S and zones where the presence of H2S is unknown.

Also, we use the information to determine the conditions of a drilling site to avoid hazards inherent in drilling operations. Specifically, we use the information to evaluate the adequacy of a lessee's or operator's plan and equipment for drilling, sidetracking, or deepening operations. This includes the adequacy of the proposed casing design, casing setting depths, drilling fluid (mud) programs, cementing programs, and blowout preventer (BOP) systems to ascertain that the proposed operations will be conducted in an operationally safe manner that provides adequate protection for the environment. The BSEE also reviews the information to ensure conformance with specific provisions of the lease. In addition, except for proprietary data, BSEE is required by the OCSLA to make available to the public certain information.

The information on the forms is as follows:

BSEE-0123

Heading: BSEE uses the information to identify the type of proposed drilling activity for which approval is requested.

Well at Total Depth/Surface: Information utilized to identify the location (area, block, lease, latitude and longitude) of the proposed drilling activity.

Significant Markers Anticipated: Identification of significant geologic formations, structures and/or horizons that the lessee or operator expects to encounter. This information, in conjunction with seismic data, is needed to correlate with other wells drilled in the area to assess the risks and hazards inherent in drilling operations.

Question/Information: The information is used to ascertain the adequacy of the drilling fluids (mud) program to ensure control of the well, the adequacy of the surface casing compliance with EPA offshore pollutant discharge requirements, and the shut-in of adjacent wells to ensure safety while moving a rig on and off a drilling location; as well as ensure the worst case discharge scenario information reflects the well and is updated if applicable. This information is also provided in the course of electronically requesting approval of drilling operations via eWell.

BSEE-0123S

Heading: BSEE uses this information to identify the lease operator, rig name, rig elevation, water depth, type well (exploratory, development), and the presence of H2S and other data which is needed to assess operational risks and safety.

Well Design Information: This engineering data identifies casing size, pressure rating, setting depth and current volume, hole size, mud weight, blowout preventer (BOP) and well bore designs, formation and BOP test data and other criteria. The information is utilized by BSEE engineers to verify operational safety and ensure well control to prevent blowouts and other hazards to personnel and the environment. This form accommodates requested data collection for successive sections of the borehole as drilling proceeds toward total depth below each intermediate casing point.

Frequency: On occasion and as required by regulations.

Description of Respondents: Potential respondents comprise Federal OCS oil, gas, or sulfur lessees and/or operators and holders of pipeline rights-of-way.

Estimated Reporting and Recordkeeping Hour Burden: The currently approved annual reporting burden for this collection is 47,800 hours and $862,104 non-hour costs. The following chart details the individual components and estimated hour burdens. In calculating the burdens, we assumed that respondents perform certain requirements in the normal course of their activities. We consider these to be usual and customary and took that into account in estimating the burden.

[Note: In the burden table, a revised APD hour burden is preceded by the letter R]

Citation 30 CFR 250; application for permit to drill (APD) | Reporting or recordkeeping requirement | Hour burden | Average number of responses | Annual burden hours (rounded)
| Non-hour cost burden
Subparts A, D, E, H, P | Apply for permit to drill, sidetrack, bypass, or deepen a well submitted via Forms BSEE-0123 (APD) and BSEE-0123S (Supplemental APD). (This burden represents only the filling out of the forms, the requirements are listed separately below) | 1 | 408 applications | 408
|  | $2,113 fee × 408 = $862,104
Subparts D and E | Obtain approval to revise your drilling plan or change major drilling equipment by submitting a Revised APD and Supplemental APD [no cost recovery fee for Revised APDs]. (This burden represents only the filling out of the forms, the requirements are listed separately below) | 1 | 662 submittals | 662
Subtotal |  |  | 1,070 responses | 1,070
|  |  | $862,104 non-hour cost burdens
Subpart A
125 | Submit evidence of your fee for services receipt | Exempt under 5 CFR 1320.3(h)(1) |  | 0
197 | Written confidentiality agreement | Exempt under 5 CFR 1320.5(d)(2) |  | 0
Subpart D
409 | Request departure approval from the drilling requirements specified in this subpart; identify and discuss | 1 | 367 approvals | 367
410(d) | Submit to the District Manager: An original and two complete copies of APD and Supplemental APD; separate public information copy of forms per § 250.186 | 0.5 | 380 submittals | 190
|  | R-0.5 | 380 submittals | 190
411; 412 | Submit plat showing location of the proposed well and all the plat requirements associated with this section | 2 | 380 submittals | 760
411; 413; 414; 415 | Submit design criteria used and all description requirements; drilling prognosis with description of the procedures you will follow; and casing and cementing program requirements | 11.5 | 707 submittals | 8,131
411; 416 | Submit diverter and BOP systems descriptions and all the regulatory requirements associated with this section | 3 | 380 submittals | 1,140
411; 417 | Provide information for using a MODU and all the regulatory requirements associated with this section | 10 | 682 submittals | 6,820
411; 418 | Additional information required when providing an APD include, but not limited to, rated capacities of drilling rig and equipment if not already on file; quantities of fluids, including weight materials; directional plot; H2S; welding plan; and information we may require per requirements, etc | 19 | 380 submittals | 7,220
420(a)(6) | (i) Include signed registered professional engineer certification and related information | 3 | 1,034 certification | 3,102
423(b)(3) | Submit for approval casing pressure test procedures and criteria. On casing seal assembly ensure proper installation of casing or line (subsea BOP's only) | 3 | 527 procedures & criteria | 1,581
423(c)(3) | Submit test procedures and criteria for a successful negative pressure test for approval. If any change, submit changes for approval | 2.5 | 355 submittals | 888
|  | R-4 | 1 change | 4
432 | Request departure from diverter requirements; with discussion and receive approval | 5 | 53 requests | 265
447(c) | Indicate which casing strings and liners meet the criteria of this section | 1 | 355 casing/liner info | 355
448(b) | Request approval of test pressures (RAM BOPs) | 2 | 353 requests | 706
448(c) | Request approval of pressure test (annular BOPs) | 1 | 380 requests | 380
449(j) | Submit test procedures, including how you will test each ROV intervention function, for approval (subsea BOPs only) | 2 | 507 submittals | 1,014
449(k) | You must submit test procedures (autoshear and deadman systems) for approval. Include documentation of the controls/circuitry system used for each test; describe how the ROV will be utilized during this operation | 2.5 | 507 submittals | 1,268
456(j) | Request approval to displace kill-weight fluid; include reasons why along with step-by-step procedures | 4.5 | 518 approval requests | 2,331
460(a) | Include your projected plans if well testing along with the required information | 12 | 2 plans | 24
490(c)(2 thru 4) | (2) Request to classify an area for the presence of H2S | 3 | 91 requests | 273
| (3) Support request with available information such as G&G data, well logs, formation tests, cores and analysis of formation fluids | 3 | 73 submittals | 219
| (4) Submit a request for reclassification of a zone when a different classification is needed | 1 | 4 requests | 4
Alaska Region: 410; 412 thru 418; 420; 442; 444; 449; 456 | Due to the difficulties of drilling in Alaska, along with the shortened time window allowed for drilling, Alaska hours are done here as stand alone requirement. Also, note that these specific hours are based on the first APD in Alaska in more than 10 years | 2,800 | 1 request | 2,800
Subpart D subtotal |  |  | 8,417 responses | 40,032
Subpart E
513 | (a) Obtain approval to begin well completion operations. If completion is planned and the data are available you may submit on forms | 3 | 288 requests | 864
|  | R-6 | 1 request | 6
| (b) Submit description of well-completion, schematics, logs, any H2S; on form | 16.5 | 295 submittals | 4,868
|  | R-26 | 1 submittal | 26
516(a) | Submit well-control procedure indicating how the annular preventer will be utilized and the pressure limitations that will be applied during each mode of pressure control | 3 | 295 procedures | 885
Subpart E subtotal |  |  | 880 responses | 6,649
Subpart H
807(a) | Submit detailed information that demonstrates the SSSVs and related equipment are capable of performing in HPHT | 3.75 | 1 submittal | 4
Subpart H subtotal |  |  | 1 response | 4
Subpart P
Note that for Sulphur Operations, while there may be 45 burden hours listed, we have not had any sulphur leases for numerous years, therefore, we have submitted minimal burden.
1605(b)(3) | Submit information on the fitness of the drilling unit | 4 | 1 submittal | 4
1617 | (a) Request approval before drilling a well | 1 | 1 submittal | 1
| (b) Include rated capacities of the proposed drilling unit and of major drilling equipment | 3 | 1 submittal | 3
| (c) Include a fully completed Form BSEE-0123 and the requirements of this section | 34 | 1 submittal | 34
1622(b) | Submit description of well-completion or workover procedures, schematic, and if H2S is present | 3 | 1 submittal | 3
Subpart P subtotal |  |  | 5 responses | 45
Total Burden |  |  | 10,373 responses | 47,800
|  |  | $862,104 non-hour cost burden

Estimated Reporting and Recordkeeping Non-Hour Cost Burden: We have identified one non-hour cost burden associated with the collection of information for a total of $862,104. There is a service fee of $2,113 required to recover the Federal Government's processing costs of the APD. We have not identified any other non-hour cost burdens associated with this collection of information.

Public Disclosure Statement: The PRA (44 U.S.C. 3501, et seq.,) provides that an agency may not conduct or sponsor a collection of information unless it displays a currently valid OMB control number. Until OMB approves a collection of information, you are not obligated to respond.

Before submitting an ICR to OMB, PRA section 3506(c)(2)(A) requires each agency “. . . to provide notice . . . and otherwise consult with members of the public and affected agencies concerning each proposed collection of information . . .”. Agencies must specifically solicit comments to: (a) Evaluate whether the collection is necessary or useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other non-hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

Public Availability of Comments: Before including your address, phone number, email address, or other personal identifying information in your comment, you should be aware that your entire comment—including your personal identifying information—may be made publicly available at any time. While you can ask us in your comment to withhold your personal identifying information from public review, we cannot guarantee that we will be able to do so.

BSEE Information Collection Clearance Officer: Nicole Mason, (703) 787-1607.

Dated: September 16, 2016.
Robert W. Middleton,
Deputy Chief, Office of Offshore Regulatory Programs.

[FR Doc. 2016-22844 Filed 9-21-16; 8:45 am]

BILLING CODE 4310-VH-P